ENVIRONMENTAL PROTECTION AGENCY

[OPPTS-41057; FRL-6820-8]

Forty-Ninth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its Forty-Ninth Report to the Administrator of EPA on November 27, 2001. In the 49th ITC Report, which is included with this notice, the ITC rescinds its request to EPA to add 8 nonylphenol polyethoxylate degradation products to the TSCA section 8(a) Preliminary Assessment Information Reporting (PAIR) rule, adds stannane, dimethylbis[(1-oxoneodecyl)oxy]- (CAS No. 68928-76-7) to the Priority Testing List and solicits voluntary information on this chemical under the Voluntary Information Submission Policy (VISP) as part of the ITC's ongoing effort to evaluate chemicals with potential to persist and bioconcentrate. The ITC also solicits voluntary information on 17 perfluorinated alcohols, esters, iodides, acids, and salts that are considered by the ITC to be possible replacement chemicals for perfluorooctylsufonates. Finally, the ITC removes 5 siloxanes from the Priority Testing List as a result of a successful dialogue with the Silicones Environmental Health and Safety Council (SEHSC) and implementation of an EPA-SEHSC Product Stewardship Program.

DATES: Comments, identified by docket control number OPPTS-41057, must be received on or before April 5, 2002.

ADDRESSES: Comments may be submitted by mail, electronically, or in person. Please follow the detailed instructions for each method as provided in Unit I. of the SUPPLEMENTARY INFORMATION. To ensure proper receipt by EPA, it is imperative that you identify docket control number OPPTS-41057 in the subject line on the first page of your response.

FOR FURTHER INFORMATION CONTACT: For general information contact: Barbara Cunningham, Acting Director, Environmental Assistance Division (7408M), Office of Pollution Prevention and Toxics, Environmental Protection Agency, 1200 Pennsylvania Ave., NW., Washington, DC 20460; telephone numbers: (202) 554-1404; e-mail address: TSCA-Hotline@epa.gov.

For technical information contact: John D. Walker, ITC Executive Director (7401M), Environmental Protection Agency, 1200 Pennsylvania Ave., NW., Washington, DC 20460; telephone number: (202) 564-7526; fax: (202) 564-7528; e-mail address: walker.johnd@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

You may also access additional information about the ITC and the TSCA testing program through the web site for the Office of Prevention, Pesticides and Toxic Substances (OPPTS) at http://www.epa.gov/opptsfrs/home/opptsim.htm/, or go directly to the ITC home page at http://www.epa.gov/opptintr/itc/.

2. In person. The Agency has established an official record for this action under docket control number OPPTS-41057. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS-41057 in the subject line on the first page of your response.

1. By mail. Submit your comments to: Document Control Office (7407M), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: oppt.ncic@epa.gov, or mail your computer disk to the address identified above. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-41057. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person listed under FOR FURTHER INFORMATION CONTACT.

E. What Should I Consider as I Prepare My Comments for EPA?

We invite you to provide your views and comments on the 49th ITC Report. You may find the following suggestions helpful for preparing your comments:

1. Explain your views as clearly as possible.

2. Describe any assumptions that you used.

3. Provide copies of any technical information and/or data you used that support your views.

4. Provide specific examples to illustrate your concerns.

5. Offer alternatives for improvement.

6. To ensure proper receipt by EPA, be sure to identify the docket control number assigned to this action in the subject line on the first page of your response. You may also provide the name, date, and Federal Register citation.

II. Background

The Toxic Substances Control Act (TSCA) (15 U.S.C. 2601 et seq.) authorizes the Administrator of the EPA to promulgate regulations under TSCA section 4(a) requiring testing of chemicals and chemical groups in order to develop data relevant to determining the risks that such chemicals and chemical groups may present to health or the environment. Section 4(e) of TSCA established the ITC to recommend chemicals and chemical groups to the Administrator of the EPA for priority testing consideration. Section 4(e) of TSCA directs the ITC to revise the TSCA section 4(e)Priority Testing List at least every 6 months.

A. The 49th ITC Report

The 49th ITC Report was transmitted to EPA's Administrator on November 27, 2001, and is included in this notice.

In the 49th ITC Report, the ITC:

1. Rescinds its request to EPA to add 8 nonylphenol polyethoxylate degradation products to the TSCA section 8(a) PAIR rule.

2. Adds stannane, dimethylbis[(1-oxoneodecyl)oxy]- (CAS No. 68928-76-7) to the Priority Testing List and solicits voluntary information on this chemical under VISP as part of the ITC's ongoing effort to evaluate chemicals with potential to persist and bioconcentrate.

3. Solicits voluntary information on 17 perfluorinated alcohols, esters, iodides, acids, and salts that are considered by the ITC to be possible replacement chemicals for perfluorooctylsufonates.

4. Removes 5 siloxanes from the Priority Testing List as a result of a successful dialogue with the SEHSC and implementation of an EPA-SEHSC Product Stewardship Program.

B. Status of the Priority Testing List

The current TSCA 4(e) Priority Testing List as of November 2001 can be found in Table 1 of the 49th ITC Report which is included in this notice.

List of Subjects

Environmental protection, Chemicals, Hazardous substances.

Dated: February 26, 2002.
Charles M. Auer,
Director, Chemical Control Division, Office of Pollution Prevention and Toxics.

Forty-Ninth Report of the TSCA Interagency Testing Committee to the Administrator, U.S. Environmental Protection Agency

Table of Contents

Summary

I. Background

II. TSCA Section 8 Reporting

A. TSCA Section 8 Reporting Rules

B. ITC's Use of TSCA Section 8 and Other Information

C. Promoting More Efficient Use of Information Submission Resources

D. Coordinating Information Requests

E. Requests to Promulgate TSCA Section 8(a) Preliminary Assessment Information Reporting (PAIR) and Section 8(d) Health and Safety Data Reporting (HaSDR) Rules

III. ITC's Activities During this Reporting Period (May to October 2001)

A. Continued Review of Degradation Effects Bioconcentration Information Testing Strategies (DEBITS) Chemicals

B. Information Solicitations: Perfluorinated Alcohols, Esters, Iodides, Acids, and Salts

IV. Revisions to the TSCA Section 4(e) Priority Testing List

A. Chemicals Added to the Priority Testing List: Stannane, dimethylbis[(1-oxoneodecyl)oxy]-

B. Chemicals Removed From the Priority Testing List: Siloxanes

V. References

VI. The TSCA Interagency Testing Committee

SUMMARY

This is the 49th Report of the TSCA Interagency Testing Committee (ITC) to the Administrator of the U.S. Environmental Protection Agency (EPA). In this Report, the ITC is rescinding its request to the EPA to add 8 nonylphenol polyethoxylate degradation products to the TSCA section 8(a) Preliminary Assessment Information Reporting (PAIR) rule. The ITC is adding stannane, dimethylbis[(1-oxoneodecyl)oxy]- to the Priority Testing List and soliciting voluntary information under the Voluntary Information Submission Policy (VISP) as part of the ongoing effort to evaluate chemicals with potential to persist and bioconcentrate. The ITC is also soliciting voluntary information on perfluorinated alcohols, esters, iodides, acids and salts that are considered possible replacement chemicals for perfluorooctylsufonates (PFOS). The ITC is removing 5 siloxanes from the Priority Testing List as a result of a successful dialogue with the Silicones Environmental Health and Safety Council (SEHSC) and implementation of a EPA-SEHSC Product Stewardship Program. The revised TSCA section 4(e) Priority Testing List follows as Table 1.

Table 1.—The TSCA Section 4(e) Priority Testing List (November 2001)
Report No. | Date | Chemical/Group | Action
28 | May 1991 | Chemicals with low confidence reference dose (RfD) Acetone Thiophenol | Designated
31 | January 1993 | 13 Chemicals with insufficient dermal absorption rate data | Designated
32 | May 1993 | 16 Chemicals with insufficient dermal absorption rate data | Designated
35 | November 1994 | 4 Chemicals with insufficient dermal absorption rate data | Designated
37 | November 1995 | 12 Alkylphenols and alkylphenol ethoxylates | Recommended
39 | November 1996 | 8 Nonylphenol ethoxylates | Recommended
41 | November 1997 | 7 Alkylphenols and alkylphenol ethoxylates | Recommended
42 | May 1998 | 3-Amino-5-mercapto-1,2,4-triazole | Recommended
42 | May 1998 | Glycoluril | Recommended
46 | May 2000 | 8 Nonylphenol polyethoxylate degradation products | Recommended
47 | November 2000 | 37 Indium chemicals | Recommended
47 | November 2000 | Pentachlorothiophenol | Recommended
47 | November 2000 | Tetrachloropyrocatechol | Recommended
47 | November 2000 | p-Toluidine, 5-chloro-.alpha.,.alpha.,.alpha.-trifluoro-2-nitro-N-phenyl | Recommended
47 | November 2000 | Benzoic acid, 3-[2-chloro-4-(trifluoromethyl)phenoxy]-, 2-ethoxy-1-methyl-2-oxoethyl ester | Recommended
47 | November 2000 | 3 Chloroalkenes | Recommended
48 | May 2001 | 5 Chlorinated trihalomethyl pyridines | Recommended
48 | May 2001 | 2 Trihaloethylidene bisbenzenes | Recommended
48 | May 2001 | 3-Chlorotrifluralin | Recommended
48 | May 2001 | 4 Trichlorophenyldihydropyrazols | Recommended
49 | November 2001 | Stannane, dimethylbis[(1-oxoneodecyl)oxy]- | Recommended

I. Background

The ITC was established by section 4(e) of TSCA “to make recommendations to the Administrator respecting the chemical substances and mixtures to which the Administrator should give priority consideration for the promulgation of a rule for testing under section 4(a).... At least every six months ..., the Committee shall make such revisions to the Priority Testing List as it determines to be necessary and transmit them to the Administrator together with the Committee's reasons for the revisions” (Public Law 94-469, 90 Stat. 2003 et seq., 15 U.S.C. 2601 et seq.). Since its creation in 1976, the ITC has submitted 48 semi-annual (May and November) reports to the EPA Administrator transmitting the Priority Testing List and its revisions. ITC reports are available from the ITC's web site (http://www.epa.gov/opptintr/itc) within a few days of submission to the Administrator and from http://www.epa.gov/fedrgstr after publication in the Federal Register. The ITC meets monthly and produces its revisions to the Priority Testing List with administrative and technical support from the ITC Staff, ITC Members and their U.S. Government organizations, and contract support provided by EPA. ITC Members and Staff are listed at the end of this Report.

II. TSCA Section 8 Reporting

A. TSCA Section 8 Reporting Rules

Following receipt of the ITC's Report (and the revised Priority Testing List) by the EPA Administrator, the EPA's Office of Pollution Prevention and Toxics (OPPT) promulgates TSCA section 8(a) PAIR and TSCA section 8(d) Health and Safety Data Reporting (HaSDR) rules for chemicals added to the Priority Testing List. The PAIR rule requires producers and importers of Chemical Abstract Service (CAS)-numbered chemicals added to the Priority Testing List to submit production and exposure reports under TSCA section 8(a). The HaSDR rule requires producers, importers and processors of all chemicals (including those with no CAS numbers) added to the Priority Testing List to submit unpublished health and safety studies under TSCA section 8(d) that must be in compliance with the revised HaSDR rule (63 FR 15765, April 1, 1998) (FRL-5750-4). All submissions must be received by the EPA within 90 days of the reporting rules Federal Register publication date. The reporting rules are automatically promulgated by OPPT unless otherwise requested by the ITC. It is an ITC policy, for most chemicals that are added to the Priority Testing List, to delay automatic promulgation of HaSDR rules to allow voluntary submission of studies of specific interest (see Unit II.C. of this Report for further details).

B. ITC's Use of TSCA Section 8 and Other Information

The ITC reviews the TSCA section 8(a) PAIR rule reports, TSCA section 8(d) HaSDR rule studies and other information that becomes available after the ITC adds chemicals to the Priority Testing List. Other information includes: TSCA section 4(a) and 4(d) studies; TSCA section 8(c) submissions; TSCA section 8(e) “substantial risk” notices; “For Your Information” (FYI) submissions; ITC voluntary submissions; unpublished data submitted to and from U.S. Government organizations represented on the ITC; and published papers, as well as use, exposure, effects, and persistence data that are voluntarily submitted to the ITC by manufacturers, importers, processors, and users of chemicals recommended by the ITC. The ITC reviews this information and determines if data needs should be revised, if chemicals should be removed from the Priority Testing List or if recommendations should be changed to designations.

C. Promoting More Efficient Use of Information Submission Resources

To promote more efficient use of information submission resources, the ITC developed the Voluntary Information Submissions Policy (VISP). The VISP provides examples of data needed by ITC Member U.S. Government organizations, examples of studies that should not be submitted, the milestones for submitting information, guidelines for using the TSCA Electronic HaSDR Form and instructions for electronically submitting full studies. The TSCA Electronic HaSDR Form can be used to provide information electronically on ITC voluntary submissions, TSCA section 8(d) studies, FYI submissions, and TSCA section 8(e) studies. VISP is described in the ITC's 41st Report (63 FR 17658, April 9, 1998) (FRL-5773-5) and is accessible through the world wide web (http://www.epa.gov/opptintr/itc/visp.htm). To facilitate the implementation of VISP, the ITC developed the Voluntary Information Submissions Innovative Online Network (VISION). VISION is described in the ITC's 42nd Report (63 FR 42554, August 7, 1998) (FRL-5797-8) and is accessible through the world wide web (http://www.epa.gov/opptintr/itc/vision.htm). VISION includes the VISP and links to the TSCA Electronic HaSDR Form (http://www.epa.gov/opptintr/.er/hasd.htm) including revised section 3.2 of the TSCA Electronic HaSD Reporting Form to provide more use and exposure information (see the ITC's 46th Report for details; 65 FR 75552, December 1, 2000) (FRL-6594-7).

The ITC requests that chemical producers, importers, processors, and users provide information electronically via VISION on chemicals for which the ITC is soliciting voluntary information. To enhance visibility, the ITC will be adding all chemicals to the Priority Testing List for which it is soliciting voluntary information. If the ITC does not receive voluntary information submissions to meet its data needs according to the procedures in VISP, the ITC may then request that EPA promulgate the appropriate TSCA sections 8(a) and 8(d) reporting rules to determine if there are unpublished data to meet those needs. The ITC requests that those companies responding to a TSCA section 8(d) HaSDR rule, provide data by using the TSCA Electronic HaSDR Form.

D. Coordinating Information Requests

To avoid duplicate reporting, the ITC carefully coordinates its information solicitations and reporting requirements with other national and international testing programs, e.g., the National Toxicology Program, the Organization for Economic Cooperation and Development (OECD) Screening Information Data Set (SIDS) program and the EPA's High Production Volume (HPV) Challenge. The ITC is currently focusing its efforts on persistent non-HPV chemicals that have exposure potential, but few, if any, publicly available ecological or health effects data. The ITC is working with the EPA's Persistent Bioaccumulative Toxics (PBT), Endocrine Disruption and perfluoroctylsulfonate chemicals workgroups to identify data-poor, potentially toxic chemicals to complement the objectives of those programs.

E. Requests to Promulgate TSCA Section 8(a) Preliminary Assessment Information Reporting (PAIR) and Section 8(d) (HaSDR) Rules

In its 47th Report, the ITC asked the EPA to add 8 nonylphenol polyethoxylate degradation products to the TSCA section 8(a) PAIR rule (66 FR 17768, April 4, 2001) (FRL-6763-6). Since that Report the ITC has obtained additional information on these chemicals from the EPA and the Alkylphenols & Ethoxylates Research Council (APERC).

At this time, the ITC is rescinding its request to add 8 nonylphenol polyethoxylate degradation products to the TSCA section 8(a) PAIR rule, because:

1. No production or importation volumes for any of the 8 nonylphenol polyethoxylate degradation products were reported to EPA in response to the 1986, 1990, 1994, or 1998 Inventory Update Rules (IURs) and

2. A November 14, 2000, letter from APERC stated that none of the 8 nonylphenol polyethoxylate degradation products have been or are being manufactured or processed for commercial purposes (Ref . 1, APERC, 2000). The 8 nonylphenol polyethoxylate degradation products are listed in Table 2.

Table 2.—Nonylphenol Polyethoxylate Degradation Products for which the ITC is Rescinding its Request for Addition to the TSCA Section 8(a) PAIR Rule
CAS No. | Nonylphenol polyethoxylate degradation products
104-35-8 | 4-nonylphenol ethoxylate (NP1EO); Ethanol, 2-(4-nonylphenoxy)-*
20427-84-3 | 4-nonylphenol diethoxylate (NP2EO); Ethanol, 2-[2-(4-nonylphenoxy)ethoxy]-
51437-95-7 | 4-nonylphenol triethoxylate (NP3EO); Ethanol, 2-[2-[2-(4-nonylphenoxy)ethoxy]ethoxy]-
7311-27-5 | 4-nonylphenol tetraethoxylate (NP4EO); Ethanol, 2-[2-[2-[2-(4-nonylphenoxy)ethoxy]ethoxy]ethoxy]-
3115-49-9 | 4-nonylphenoxy acetic acid (NP1EC); Acetic acid, (4-nonylphenoxy)-
106807-78-7 | 4-nonylphenoxy ethoxy acetic acid (NP2EC); Acetic acid, [2-(4-nonylphenoxy)-ethoxy]-
108149-59-3 | 4-nonylphenoxy diethoxy acetic acid (NP3EC); Acetic acid, [2-[4-nonylphenoxy)ethoxy]ethoxy]-
184007-22-5 | 4-nonylphenoxy triethoxy acetic acid (NP4EC); Acetic acid, [2-[2-[2-(4-nonylphenoxy)ethoxy]ethoxy]ethoxy]-
* Names following the semicolon are TSCA-preferred names.

At this time, the ITC is requesting that EPA not promulgate a TSCA section 8(d) HaSDR rule for stannane, dimethylbis[(1-oxoneodecyl)oxy]-. The ITC is making this request to allow ORTEP and the producers, importers, processors, and users of stannane, dimethylbis [(1-oxoneodecyl)oxy]- an opportunity to voluntarily provide the requested information (see Units III. and IV. of this Report).

III. ITC's Activities During this Reporting Period (May to October 2001)

A. Continued Review of Degradation Effects Bioconcentration Information Testing Strategies (DEBITS) Chemicals

In its 45th through 48th Reports, the ITC described its strategies to screen and evaluate chemicals with persistence and bioconcentration potential. These activities are referred to as DEBITS. DEBITS provides a means to prioritize chemicals for information reporting and testing based on degradation and bioconcentration potential and availability of effects data.

During this reporting period, the ITC continued to implement DEBITS by reviewing moderate production volume (MPV) chemicals (production or importation volumes between 100,000 and 1,000,000 pounds) with estimated or measured bioconcentration factors (BCFs) > 250 and structurally related non-MPV chemicals. The ITC reviewed 95 chemicals during this reporting period including 48 chemicals for which information was solicited from manufacturers and trade associations (Table 3).

Table 3.—DEBITS Chemicals for Which Information was Solicited From Manufacturers and Trade Associations During this Reporting Period
CAS No. | Chemical name | Structural class
61260-55-7 | 1,2-Bis((2,2,6,6-tetramethyl-piperidin-4-yl)aminoethyl)ethane | 2,2,6,6-Tetramethylpiperidines
82919-37-7 | Decanedioic acid, methyl 1,2,2,6,6-pentamethyl-4-piperidinyl ester | 2,2,6,6-Tetramethylpiperidines
110843-97-5 | 1,5-Dioxaspiro[5.5]undecane-3,3-dicarboxylic acid, bis(2,2,6,6-tetramethyl-4-piperidinyl) ester | 2,2,6,6-Tetramethylpiperidines
1552-42-7 | 6-(Dimethylamino)-3,3-bis(4-(dimethylamino)phenyl)-1(3H)- isobenzofuranone | 3,3-Diphenylisobenzofuranones
52830-74-7 | 6-(Dimethylamino)-3-(4-(dimethylamino)phenyl)-1(3H)-Isobenzofuranone, 3-(2,4-bis(dimethylamino)phenyl- | 3,3-Diphenylisobenzofuranones
15715-19-2 | Quino [2,3-b] acridine-7,14-dione, 4,11-dichloro-5,6,12,13-tetrahydro- | 6,13-Dihydroquinacridones
51085-07-5 | Quino[2,3-b]acridine-7,14-dione, 2,9-dichloro-5,6,12,13-tetrahydro- | 6,13-Dihydroquinacridones
81-33-4 | Anthra[2,1,9-def:6,5,10-d'e'f']diisoquinoline-1,3,8,10(2H,9H)-tetrone | Anthra[2,1,9-def:6,5,10-d'e'f']diisoquinoline-1,3,8,10 (2H,9H)-tetrones
5521-31-3 | Anthra[2,1,9-def:6,5,10-d'e'f']diisoquinoline- 1,3,8,10(2H,9H)-tetrone, 2,9-dimethyl- | Anthra[2,1,9-def:6,5,10-d'e'f']diisoquinoline-1,3,8,10 (2H,9H)-tetrones
6424-77-7 | Anthra[2,1,9-def:6,5,10-d'e'f']diisoquinoline-1,3,8,10(2H,9H)-tetrone, 2,9-bis(4-methoxyphenyl)- | Anthra[2,1,9-def:6,5,10-d'e'f']diisoquinoline-1,3,8,10 (2H,9H)-tetrones
67923-45-9 | Thiocyanic acid, (1,3,8,10-tetrahydro-1,3,8,10-tetraoxoanthra (2,1,9-def:6,5,10-d'e'f')diisoquinoline-2,9-diyl)di-3,1-phenylene ester | Anthra[2,1,9-def:6,5,10-d'e'f']diisoquinoline-1,3,8,10 (2H,9H)-tetrones
2716-10-1 | Benzenamine, 4,4'-[1,4-phenylenebis(1-methylethylidene)]bis- | Bis[(4-aminophenyl)methyl]benzenes
25834-80-4 | 2,4-Bis[(4-aminophenyl)methyl]benzenamine | Bis[(4-aminophenyl)methyl]benzenes
2379-74-0 | Benzo[b]thiophen-3(2H)-one, 6-chloro-2-(6-chloro-4-methyl-3-oxobenzo[b]thien-2(3H)-ylidene)-4-methyl- | Bisindolones and Bisbenzothiophenones
85702-64-3 | 3H-Indol-3-one, 5,7-dibromo-2-(5-bromo-7-chloro-1,3-dihydro-3-oxo-2H-indol-2-ylidene)-1,2-dihydro- | Bisindolones and Bisbenzothiophenones
82-68-8 | Pentachloronitrobenzene | Halo nitrobenzenes (chloronitrobenzenes)
29091-09-6 | 2,4-Dichloro-3,5-dinitrobenzotrifluoride | Halo nitrobenzenes (chloronitrobenzenes)
121-17-5 | Benzene, 1-chloro-2-nitro-4-(trifluoromethyl)- | Halo nitrobenzenes (trihalomethylnitrobenzenes)
6379-46-0 | Benzene, 2,3,4-trichloro-1,5-dinitro- | Halo nitrobenzenes (trihalomethylnitrobenzenes)
319-84-6 | alpha-Hexachlorocyclohexane | Halogenated cyclohexanes
30554-72-4 | Cyclohexane, tetrabromodichloro- | Halogenated cyclohexanes
30554-73-5 | Cyclohexane, tribromotrichloro- | Halogenated cyclohexanes
68258-90-2 | Heptachlorocyclopentane | Halogenated cyclopentanes
68258-91-3 | Hexachlorocyclopentane | Halogenated cyclopentanes
91-78-1 | s-Triazine, hexahydro-1,3,5-triphenyl- | Hexahydrotriazines
6281-14-7 | 1,3,5-Tricyclohexylhexahydro-s-triazine | Hexahydrotriazines
68083-44-3 | 1,3,5-Triazine, hexahydro-1,3,5-tris(2-methylphenyl)-, trihydrochloride | Hexahydrotriazines
5915-41-3 | 2-tert-Butylamino-4-chloro-6-ethylamino-s-triazine | N-(1,1-Dimethylethyl)-N'-ethyl-1,3,5-triazine-2,4-diamines
33693-04-8 | N-(1,1-dimethylethyl)-N'-ethyl-6-methoxy-1,3,5-triazine-2,4-diamine | N-(1,1-Dimethylethyl)-N'-ethyl-1,3,5-triazine-2,4-diamines
20749-68-2 | 12H-Phthaloperin-12-one, 8,9,10,11-tetrachloro- | Phthaloperinone Type Compounds
68296-59-3 | 7H-Benzimidazo[2,1-a]benz[de]isoquinolin-7-one, 9(or 10)-methoxy- | Phthaloperinone Type Compounds
980-26-7 | 2,9-Dimethylquinacridone | Quinacridones
1047-16-1 | 5,12-Dihydroquino[2,3-b]acridine-7,14-dione | Quinacridones
3089-16-5 | Quino [2,3-b] acridine-7,14-dione, 4,11-dichloro-5,12-dihydro- | Quinacridones
3089-17-6 | Quino[2,3-b]acridine-7,14-dione, 2,9-dichloro-5,12-dihydro- | Quinacridones
68-36-0 | Benzene, 1,4-bis(trichloromethyl)- | Simple polyhalomethylbenzenes
328-84-7 | Benzene, 1,2-dichloro-4-(trifluoromethyl)- | Simple polyhalomethylbenzenes
5216-25-1 | 4-Chlorobenzotrichloride | Simple polyhalomethylbenzenes
25641-99-0 | 1,2-Bis(dichloromethyl)benzene | Simple polyhalomethylbenzenes
30359-53-6 | Benzene, 1-(2,2,2-trichloroethyl)-3-(trifluoromethyl) | Simple polyhalomethylbenzenes
78068-85-6 | 2-Chloro-1-fluoro-4-(trifluoromethyl)benzene | Simple polyhalomethylbenzenes
467-63-0 | Benzenemethanol, 4-(dimethylamino)- alpha,alpha-bis[4-(dimethylamino)phenyl]- | Tris(aminoaryl)methanes
603-48-5 | Benzenamine, 4,4',4''-methylidynetris [N,N-dimethyl- | Tris(aminoaryl)methanes
65294-17-9 | Methylium, tris[4-(dimethylamino)phenyl]-, salt with 3-[[4-(phenylamino)phenyl]azo]benzenesulfonic acid (1:1) | Tris(aminoaryl)methanes
68155-73-7 | Benzenesulfonic acid, 2-[bis[4-[ethyl[(3-sulfophenyl)methyl]amino]phenyl]methyl] | Tris(aminoaryl)methanes
71173-64-3 | Methylium, bis-[4-(dimethylamino) phenyl][4-[(2-hydroxyethyl)amino] phenyl]- | Tris(aminoaryl)methanes
515-03-7 | Sclareol |
68928-76-7 | Stannane, dimethylbis[(1-oxoneodecyl)oxy]- |

The ITC reviewed information on the chemicals in Table 3 from the Color Pigments Manufacturers Association (CPMA) and the Ecological and Toxicological Association of Dyes and Organic Pigments Manufacturers (ETAD) and the companies that were previously or are currently manufacturing these chemicals. The ITC learned that many low production volume (LPV) chemicals (production/importation volumes between 10,000 and 100,000 pounds) were no longer produced or imported. Some of the chemicals are still produced but only used as chemical intermediates. Because of limited production or use, the ITC is not requesting additional information for 46 of these 48 chemicals, at this time.

However, the ITC is continuing to review information for 2 of these 48 chemicals, 2,9-dimethylquinacridone or quino[2,3-b]acridine-7,14-dione, 5,12-dihydro-2,9-dimethyl- (CAS No. 980-26-7) and stannane, dimethylbis[(1-oxoneodecyl)oxy]- (CAS No. 68928-76-7) (Table 3). The ITC requested additional information on 2,9-dimethylquinacridone from CPMA and ETAD and is adding stannane, dimethylbis[(1-oxoneodecyl)oxy]- to the Priority Testing List (see Unit IV. of this Report).

The ITC reviewed 47 other chemicals satisfying the DEBITS criteria listed in the 45th ITC Report published in the Federal Register of December 1, 2000 (65 FR 75544) (FRL-6399-5). It was determined that there is a substantial amount of health and ecological effects data available for 6 chemicals (Table 4). There is testing being planned under EPA's HPV Challenge or the OECD SIDS program for 5 chemicals (Table 5). There was no production or importation volumes reported to EPA in response to the 1998 IUR for 36 chemicals with bioconcentration potential (Table 6). The ITC is not requesting additional information on these 47 chemicals, at this time.

Table 4.—DEBITS Chemicals with Substantial Effects Data
CAS No. | Chemical name | Structural class
101-14-4 | Benzenamine, 4,4'-methylenebis [2-chloro- | Bis(3-chloro-4-aminophenyl)s
91-94--1 | Benzidine, 3,3'-dichloro- | Bis(3-chloro-4-aminophenyl)s
1330-38-7 | Copper, [dihydrogen phthalocyaninedisulfonato(2-)]-, disodium salt | Copper phthalocyanines
147-14-8 | Copper phthalocyanine | Copper phthalocyanines
3380-34-5 | 5-Chloro-2-(2,4-dichlorophenoxy)phenol (Triclosan) |
129-00-0 | Pyrene |

Table 5.—DEBITS Chemicals in the EPA's HPV Challenge or the (OECD) (SIDS) Program
CAS No. | Chemical name | Structural class
7328-97-4 | Oxirane,2,2',2'',2'''-[1,2-ethanediylidenetetrakis (4,1-phenyleneoxymethylene)]tetrakis- | Glycidyl ethers
6472-82-8 | Acetamide, N-[(3.beta.,4.beta.,5.alpha.,16.alpha.,20S)-16-(acetyloxy)-3-(dimethylamino)-4-(hydroxymethyl)-4,14-dimethyl-9,19-cylcopregn-6-en-20-yl]-N-methyl- | Spiro[isobenzofuran-1(3H),9'-[9H]xanthen]-3-ones
632-79-1 | Tetrabromophthalic anhydride | 1,2-Dicarboxy-3,4,5,6-tetrahalobenzenes
117-08-8 | Tetrachlorophthalic anhydride | 1,2-Dicarboxy-3,4,5,6-tetrahalobenzenes
3468-63-1 | 1-[(2,4-Dinitrophenyl)azo]-2-naphthalenol | 1-[(Dinitrophenyl)azo]-2-naphthalenols

Table 6.—DEBITS Chemicals with Bioconcentration Potential, but no Production or Importation Volumes Reported to EPA in Response to the 1998 IUR
CAS No. | Chemical name | Structural class
25357-79-3 | Tetrabromophthalic acid disodium salt | 1,2-Dicarboxy-3,4,5,6 tetrahalobenzenes
59756-57-9 | 2-Propanone, 1-phenyl-3- 3-[trifluoromethyl)phenyl] - | 1-Phenyl-3-(trifluoromethyl)phenyl-2-propanones
89768 -05 -8 | Benzenebutanenitrile, .beta.-oxo-.alpha.-phenyl-3-(trifluoromethyl)- | 1-Phenyl-3-(trifluoromethyl)phenyl-2-propanones
147-82-0 | 2,4,6-Tribromoaniline | 2,6-Dibromoanilines
92484-07-6 | 2-Butenediamide, N,N'-bis(2,4,6-tribromophenyl)-, (E)- | 2,6-Dibromoanilines
6372-69-6 | Phenothiazin-5-ium, 3,7-bis(dimethylamino)-, chloride, compd. with zinc chloride (ZnCl2) | 3,7-Bis(dimethylamino)pheno(thia or oxa)zin-5-ium
345-92-6 | Bis(4-fluorophenyl)methanone | 4,4'-Substituted benzophenones
81-42-5 | 1,4-Diamino-2,3-dichloro-9,10-anthracenedione | Diaminoanthraquinones
81-49-2 | 1-Amino-2,4-dibromo-9,10-anthracenedione | Diaminoanthraquinones
3443-90-1 | Benzenesulfonic acid, 2,2'-[(9,10-dihydro-9-10-dioxo-1,4-anthracenediyl)diimino]bis(5-methyl- | Diaminoanthraquinones
6397-02-0 | 2-Anthracenesulfonic acid, 1-amino-9,10-dihydro-9,10-dioxo-4-[(2,4,6-trimethylphenyl)amino]-, monosodium salt | Diaminoanthraquinones
68227-79-2 | Benzenesulfonic acid, 2-[[9,10-dihydro-4-[(4-methylphenyl)amino]-9,10-dioxo-1-anthracenyl] amino]-5-methyl-, monoammonium salt | Diaminoanthraquinones
68834-02-6 | 2-Anthracenesulfonic acid, 1-amino-4-[[4-[[(4-methylphenyl)sulfonyl]oxy]phenyl]amino]- 9,10-dihydro-9,10-dioxo | Diaminoanthraquinones
6130-72-9 | 1,1,3-tris[p-(2,3-epoxypropoxy)phenyl]propane | Glycidyl ethers
67786-03-2 | 2,2'-[[[2-(Oxiranylmethoxy) phenyl] methylene] bis (4,1-phenyleneoxymethylene)] bis- | Glycidyl ethers
26619-69-2 | 2H-2, 4a-Methanonaphthalene, 8,8a-epoxyoctahydro- 1,1,5,5-tetramethyl-, (2S, 4aR, 8R, 8aS) - (-) - | Glycidyl ethers
103490-06-8 | Oxiranemethanamine, N,N'-[1,4-phenylenebis[(1-methylethylidene)-4,1-phenylene]]bis[N- (oxiranylmethyl)- | Glycidyl ethers
28517-81-9 | Benzenesulfonic acid, ((1-amino-9,10-dihydro-4-hydroxy-9,10-dioxo-2-anthracenyl)oxy) (1,1-dimethylpropyl) | Hydroxyamino anthraquinones
27177-08-8 | 3,6,9,12,15,18,21,24,27-Nonaoxanonacosan-1-ol, 29-(nonylphenoxy)- | Polyethoxylated nonylphenols
66197-78-2 | 3,6,9,12,15,18,21,24-Octaoxahexacosan-1-ol, 26-(nonylphenoxy)-, dihydrogen phosphate | Polyethoxylated nonylphenols
6262-21-1 | 3',4',5',6'-Tetrachlorofluorescein | Spiro[isobenzofuran-1(3H),9'-[9H]xanthen]-3-ones
17372-87-1 | 2',4',5',7'-Tetrabromo-3',6'-dihydroxyspiro[isobenzofuran-1(3H),9'-[9H]xanthen]-3-one, disodium salt | Spiro[isobenzofuran-1(3H),9'-[9H]xanthen]-3-ones
24460-06-8 | Spiro [isobenzofuran-1(3H),9'-[9H] xanthen]-3-one, 2'-amino-6'-(diethylamino)- | Spiro[isobenzofuran-1(3H),9'-[9H]xanthen]-3-ones
69898-41-5 | Furo[3,4-b]pyridin-7(5H)-one, 5-[4-(diethylamino)-2-ethoxyphenyl]-5-(1-ethyl-2-methyl-1H-indol-3-yl)- | Spiro[isobenzofuran-1(3H),9'-[9H]xanthen]-3-ones
2712 -83-6 | Butyranilide,2,2,3,3,4,4,4-heptafluoro-2'hydroxy-4'-nitro- |
5610-94-6 | 1-Naphthalenesulfonic acid, 6-diazo-5,6-dihydro-5-oxo-, 4-benzoyl-1,2,3-benzenetriyl ester |
39635-79-5 | Phenol, 4,4'-sulfonylbis [2,6-dibromo- |
57000-78-9 | 2-Butanone, 1-chloro-1-(4-chlorophenoxy)-3,3-dimethyl- |
61219-95-2 | 2,2-Dichloro-N-2-propenyl-N-[3-(trifluoromethyl)phenyl]acetamide |
61792-00-5 | 9,10-Anthracenedione, 1,8-bis(2,4-dinitrophenoxy)-4,5-dinitro- |
63467-15-2 | 1(2H)-Quinolinepropanamide, 6-(2,2-dicyanoethenyl)-3,4-dihydro-2,2,4,7-tetramethyl-N-phenyl- |
66332-96-5 | α,α,α-Trifluoro-3'-isopropoxy-o-toluanalide |
68318-35-4 | 2,7-Naphthalenedisulfonic acid, 4-amino-3-[[4'-[(2,4-dihydroxyphenyl)azo]-3,3'-dimethyl[1,1'-biphenyl]-4-yl]azo]-5-hydroxy-6-[(4-sulfophenyl)azo]-, trisodium salt |
72850-64-7 | 5-Thiazolecarboxylic acid, 2-chloro-4-(trifluoromethyl)-, phenylmethyl ester |
93964-25-1 | 11H-Benzo[a]carbazole-3-carboxamide, 2-hydroxy-N-(4-methoxy-2-methylphenyl)-, monosodium salt |
97886-45-8 | 3,5-Pyridinedicarbothioic acid, 2-(difluoromethyl)-4-(2-methylpropyl)-6-(trifluoromethyl)-, S,S-dimethyl ester |

B. Information Solicitations: Perfluorinated Alcohols, Esters, Iodides, Acids, and Salts

On May 25, 2000, the ITC delivered its 46th Report to the EPA Administrator and solicited use, exposure, environmental fate, health effects, and ecological effects information on 50 perfluorinated chemicals (65 FR 75552, December 1, 2000) (FRL-6594-7) that were identified during the implementation of DEBITS. Since then the EPA has convened several public meetings to discuss chemicals containing perfluorooctyl sulfonates (PFOS) and proposed a significant new use rule (SNUR) under TSCA section 5(a)(2) for 90 chemical substances, including: Perfluorooctanesulfonic acid (PFOSA) and certain of its salts (PFOSS), perfluorooctanesulfonyl fluoride (PFOSF), certain higher and lower homologues of PFOSA and PFOSF, and certain other chemical substances, including polymers, that contain PFOSA and its homologues as substructures (65 FR 62319, October 18, 2000) (FRL-6745-5). All of these chemical substances were referred to collectively as PFOS in this proposed rule.

The EPA and other U.S. Government organizations represented on the ITC are continuing to evaluate perfluorinated chemicals. Consequently, the ITC in cooperation with the EPA identified 17 additional perfluorinated chemicals, not named in the ITC's 46th Report, the EPA's SNUR or the EPA's HPV Challenge, that are possible replacements for some uses of PFOS-containing chemicals. These 17 perfluorinated chemicals had production volumes greater than 10,000 pounds, but less than 1 million pounds (based on 1998 IUR, non-CBI data). The 17 additional perfluorinated chemicals are listed in Tables 7-10.

Table 7.—Perfluoroalkyl Alcohols
CAS No. | Chemical name
865-86-1 | 1-Dodecanol, 3,3,4,4,5,5,6,6,7,7,8,8,9,9,10,10,11,11,12,12,12-heneicosafluoro-
39239-77-5 | 1-Tetradecanol, 3,3,4,4,5,5,6,6,7,7,8,8,9,9,10,10,11,11,12,12,13,13,14,14,14-pentacosafluoro-
60699-51-6 | 1-Hexadecanol, 3,3,4,4,5,5,6,6,7,7,8,8,9,9,10,10,11,11,12,12,13,13,14,14,15,15,16,16,16-nonacosafluoro-
65104-67-8 | 1-Octadecanol, 3,3,4,4,5,5,6,6,7,7,8,8,9,9,10,10,11,11,12,12,13,13,14,14,15,15,16,16,17,17,18,18,18-tritriacontafluoro-

Table 8.—Perfluoroalkyl Esters
CAS No. | Chemical name
17741-60-5 | 2-Propenoic acid, 3,3,4,4,5,5,6,6,7,7,8,8,9,9,10,10,11,11,12,12,12-heneicosafluorododecyl ester
27905-45-9 | 2-Propenoic acid, 3,3,4,4,5,5,6,6,7,7,8,8,9,9,10,10,10-heptadecafluorodecyl ester
34362-49-7 | 2-Propenoic acid, 3,3,4,4,5,5,6,6,7,7,8,8,9,9,10,10,11,11,12,12,13,13,14,14,15,15,16,16,16-nonacosafluorohexadecyl ester
34395-24-9 | 2-Propenoic acid, 3,3,4,4,5,5,6,6,7,7,8,8,9,9,10,10,11,11,12,12,13,13,14,14,14-pentacosafluorotetradecyl ester
65150-93-8 | 2-Propenoic acid, 3,3,4,4,5,5,6,6,7,7,8,8,9,9,10,10,11,11,12,12,13,13,14,14,15,15,16,16,17,17,18,18,18-tritriacontafluorooctadecyl ester

Table 9.—Perfluoroalkyl Iodides
CAS No. | Chemical name
2043-54 -1 | Dodecane, 1,1,1,2,2,3,3,4,4,5,5,6,6,7,7,8,8,9,9,10,10-heneicosafluoro-12-iodo-
2043 -57 -4 | Octane, 1,1,1,2,2,3,3,4,4,5,5,6,6-tridecafluoro-8-iodo-
30046 -31 -2 | Tetradecane, 1,1,1,2,2,3,3,4,4,5,5,6,6,7,7,8,8,9,9,10,10,11,11,12,12-pentacosafluoro-14-iodo-
65104 -63 -4 | Eicosane, 1,1,1,2,2,3,3,4,4,5,5,6,6,7,7,8,8,9,9,10,10,11,11,12,12,13,13,14,14,15,15,16,16,17,17,18,18-heptatriacontafluoro-20-iodo-
65150 -94 -9 | Octadecane, 1,1,1,2,2,3,3,4,4,5,5,6,6,7,7,8,8,9,9,10,10,11,11,12,12,13,13,14,14,15,15,16,16-tritriacontafluoro-18-iodo-
65510 -55 -6 | Hexadecane, 1,1,1,2,2,3,3,4,4,5,5,6,6,7,7,8,8,9,9,10,10,11,11,12,12,13,13,14,14-nonacosafluoro-16-iodo-

Table 10.—Perfluoroalkyl Acids and Salts
CAS No. | Chemical name
335-67-1 | Octanoic acid, pentadecafluoro
54950-05-9 | Butanedioic acid, sulfo-, 1,4-bis(3,3,4,4,5,5,6,6,7,7,8,8,8,-tridecafluorooctyl)ester, sodium salt

The ITC needs use, exposure, health effects, ecological effects, and bioconcentration information for the 17 perfluorinated chemicals in Tables 7-10 to address the data needs of U.S. Government member organizations.

IV. Revisions to the TSCA Section 4(e) Priority Testing List

A. Chemicals Added to the Priority Testing List: Stannane, dimethylbis[(1-oxoneodecyl)oxy]-

1. Recommendation. Stannane, dimethylbis[(1-oxoneodecyl)oxy]- (CAS No. 68928-76-7) is being recommended to obtain data on use, exposure, environmental fate, health effects, and ecological effects data.

2. Rationale for recommendation. Stannane, dimethylbis[(1-oxoneodecyl)oxy]- is a MPV chemical that is predicted to persist and bioconcentrate; the estimated BCF is 8,600. The 1998 IUR indicates that 100,000 to 1,000,000 pounds of stannane, dimethylbis [(1-oxoneodecyl)oxy]- were produced or imported in the United States but the ITC has no use and exposure information. A recent TSCA section 8(e) submission reported a rat oral LD50 of 894 milligram/kilogram (mg/kg) body weight (Ref. 2, Crompton Corporation, 2001). Signs of toxicity, including neurotoxic effects, were observed in this rat oral gavage study. The ITC has no other effects data and no environmental fate data, including no data on hydrolysis rates or products.

3. Supporting information. Organotin compounds as a broad class have an abundance of health and ecological effects data. Though the types of effects vary among different organotins, immunotoxicity, neurotoxicity and developmental and reproductive effects have been observed in mammalian studies. The ITC is aware that the Organotin Environmental Program (ORTEP) has proposed to conduct tests on several organotin compounds under the EPA's HPV Challenge. However, stannane, dimethylbis[(1-oxoneodecyl)oxy]-, a MPV chemical was not included in that program. As noted above, stannane, dimethylbis[(1-oxoneodecyl)oxy]- has a rat oral LD50 of 894 mg/kg body weight. To establish the oral LD50, rats received single oral gavage doses of 592; 1,000; or 1,690 mg/kg Fomrez UL-28 (90.6% dimethylbis[(1-oxoneodecyl)oxy]-stannane). One of 10, 6/10, and 10/10 rats died at 592; 1,000; and 1,690 mg/kg, respectively. Most of the animals exhibited hypoactivity, and abnormal excreta, along with impaired muscle coordination, tremors, and/or hypothermia in 17, 16, and 9 animals, respectively. Five of the 9 surviving animals at 592 mg/kg appeared normal by day 12, while the remaining 4 animals exhibited hair loss, hypoactivity, impaired muscle coordination, partial eye closing, hypothermia, hyper-reactivity to touch, and/or dried red material around the nose at study termination. The 4 surviving animals at 1,000 mg/kg exhibited tremors, impaired muscle coordination, hyper-reactivity to touch, and/or distended abdomen until study termination.

4. Information needs. The ITC needs use, exposure, ecological effects, and environmental fate data and more health effects data. If the ITC does not receive voluntary information submissions to meet its data needs according to the procedures in VISP, the ITC may then request that EPA promulgate a TSCA section 8(d) HaSDR rule to determine if there are unpublished data to meet those needs.

B. Chemicals Removed From the Priority Testing List: Siloxanes

To meet the data needs of the U.S. Government organizations represented on the ITC, 56 siloxanes were recommended for health effects testing in the ITC's 30th Report (57 FR 30608, July 9, 1992) (FRL-4071-4). After this recommendation, the ITC's Siloxanes Subcommittee and the Silicones Environmental Health and Safety Council (SEHSC) established a Dialogue Group to develop health effects data. The health effects data are being developed under an April 9, 1996, Memorandum of Understanding (MOU) between EPA and the Dow Corning Corporation and a Product Stewardship Program between EPA and SEHSC. Since the establishment of this Dialogue Group, numerous activities have occurred resulting in the removal of 51 of the 56 siloxanes on the Priority Testing List (see the ITC's 37th, 38th, 39th, 40th, and 41st Reports). During this reporting period, the SEHSC provided the ITC with a list of reports (health effects studies) that have been submitted to EPA since the implementation of the product stewardship program. The list includes reports on the 5 siloxanes being removed from the Priority Testing List. The list of reports, EPA's Document Control Number (DCN), and the key findings of these reports are available on the SEHSC's website (http://www.sehsc.com/). SEHSC will include study summaries of the listed reports on its website by April 2002. Full copies of the listed reports are available from the EPA's Nonconfidential Information Center (NCIC) under docket control number OPTS-42071A. On its website, SEHSC also included a list of the publications that are available in the peer-reviewed literature on the health and safety data that have been developed under the siloxane product stewardship program. As a result of these activities the ITC is removing the 5 siloxanes from the Priority Testing List (Table 11).

Table 11.—Siloxanes Being Removed From the Priority Testing List
CAS No. | Chemical name
| Cyclic Siloxanes
556-67-2 | Octamethylcyclotetrasiloxane (D4)
541-02-6 | Decamethylcyclopentasiloxane (D5)
540-97-6 | Dodecamethylcyclohexasiloxane (D6)
| Linear Siloxanes
107-46-0 | Hexamethyldisiloxane (L2)
| Polymers
63148-62-9 | Dimethyl silicones and siloxanes

V. References

1. APERC. 2000. November 14, 2000, letter from Barbara S. Losey, Deputy Director, APERC to Dr. John D. Walker, Director, TSCA Interagency Testing Committee.

2. Crompton Corporation. 2001. TSCA section 8(e) submission letter dated July 25, 2001. EPA Doc. No. 88-010000204. Fiche No. 8EHQ-0792-606.

VI. The TSCA Interagency Testing Committee

Statutory Organizations and Their Representatives

Council on Environmental Quality

Vacant

Department of Commerce

National Institute of Standards and Technology

Robert Huie, Member

Barbara C. Levin, Alternate

National Oceanographic and Atmospheric Administration

Thomas P. O'Connor, Member

Teri Rowles, Alternate

Environmental Protection Agency

Paul Campanella, Member

David R. Williams, Alternate

National Cancer Institute

Alan Poland, Member

David Longfellow, Alternate

National Institute of Environmental Health Sciences

Scott Masten, Member, Chair

William Eastin, Alternate

National Institute for Occupational Safety and Health

Mark Toraason, Member

David Lynch, Alternate

National Science Foundation

A. Frederick Thompson, Member

Marge Cavanaugh, Alternate

Occupational Safety and Health Administration

Val H. Schaeffer, Member, Vice Chair

Lyn Penniman, Alternate

Liaison Organizations and Their Representatives

Agency for Toxic Substances and Disease Registry

William Cibulas, Member

Stephanie Miles-Richardson, Alternate

Consumer Product Safety Commission

Jacqueline Ferrante, Member

Treye Thomas, Alternate

Department of Agriculture

Clifford P. Rice, Member

Laura L. McConnell, Alternate

Department of Defense

Barbara Larcom, Member

Kenneth Still, Alternate

José Centeno, Alternate

Department of the Interior

Barnett A. Rattner, Member

Food and Drug Administration

David Hatten, Alternate

National Library of Medicine

Vera W. Hudson, Member

National Toxicology Program

NIEHS, FDA, and NIOSH Members

Counsel

Scott Sherlock, OPPT, EPA

Technical Support Contractor

Syracuse Research Corporation

ITC Staff

John D. Walker, Executive Director

Norma S. L. Williams, Executive Assistant

TSCA Interagency Testing Committee, Office of Pollution Prevention and Toxics (7401), Environmental Protection Agency, 1200 Pennsylvania Ave., NW., Washington, DC 20460; telephone: (202) 564-7527; fax: (202) 564-7528; e-mail address: williams.norma@epa.gov; url: http://www.epa.gov/opptintr/itc.

[FR Doc. 02-5317 Filed 3-5-02; 8:45 am]

BILLING CODE 6560-50-S